Proclamation 9630 of August 20, 2017

National Employer Support of the Guard and Reserve Week, 2017

By the President of the United States of America

A Proclamation

Throughout our Nation's history, Americans from all walks of life have made tremendous sacrifices in defense of our freedom. Today, more than one million citizen soldiers, sailors, airmen, marines, and coastguardsmen continue this proud legacy as members of the National Guard and Reserve. During National Employer Support of the Guard and Reserve Week, we express our gratitude to the employers and communities who support those brave men and women.

Employer support for the National Guard and Reserve is important to our ability to sustain an all-volunteer force. Employers play a vital role in easing the transitions our national guardsmen and reservists must make from civilian life to military service and back again. Whether they are participating in weekend training in support of readiness or deploying in response to a crisis at home and abroad, our national guardsmen and reservists are more effective when they have the support of civilian employers.

Our Nation salutes our employers and business leaders who, often at their own expense, back their employees who serve in the National Guard and Reserve. As President, I will continue to focus on providing our men and women in uniform and their families with access to the services, benefits, and care they so deserve. I encourage all Americans to join with our employers in facilitating the service our national guardsmen and reservists provide to our Nation and honoring the sacrifices they make in defense of our security.

NOW, THEREFORE, I, DONALD J. TRUMP, President of the United States of America, by virtue of the authority vested in me by the Constitution and the laws of the United States, do hereby proclaim August 20 through August 26, 2017, as National Employer Support of the Guard and Reserve Week. I call upon all Americans to join me in expressing our heartfelt thanks to the civilian employers who provide critical support to the men and women of the National Guard and Reserve. I also call on State and local officials, private organizations, and all military commanders to observe this week with appropriate ceremonies and activities.

IN WITNESS WHEREOF, I have hereunto set my hand this twentieth day of August, in the year of our Lord two thousand seventeen, and of the Independence of the United States of America the two hundred and forty-second.

[FR Doc. 2017-18142

Filed 8-23-17; 11:15 am]

Billing code 3295-F7-P